DEPARTMENT OF THE TREASURY

Submission for OMB Review; Comment Request

May 14, 2012.

The Department of the Treasury will submit the following information collection request to the Office of Management and Budget (OMB) for review and clearance in accordance with the Paperwork Reduction Act of 1995, Public Law 104-13, on or after the date of publication of this notice.

DATES: Comments should be received on or before June 18, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 8140, Washington, DC 20220, or on-line at www.PRAComment.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0103.

Type of Review: Revision a currently approved collection.

Title: Tobacco Bond—Collateral, Tobacco Bond—Surety, and Tobacco Bond.

Form: TTB F 5200.25, 5200.26, 5200.29.

Abstract: TTB requires a corporate surety bond or a collateral bond to ensure payment of the excise tax on tobacco products (TP) and cigarette paper and tubes (CP&T) removed from the factory or warehouse. These TTB forms identify the agreement to pay and the person from which TTB will attempt to collect any unpaid excise tax. Manufactures of TP or CP&T, export warehouse proprietors, and corporate sureties, if applicable, are the respondents for these forms.

Affected Public: Private Sector: Businesses or other for-profits.

Estimated Total Burden Hours: 111.

Dawn D. Wolfgang,
Treasury PRA Clearance Officer.

[FR Doc. 2012-11985 Filed 5-16-12; 8:45 am]

BILLING CODE 4810-31-P